DEPARTMENT OF TRANSPORTATION

Federal Highway Administration

Environmental Impact Statement: Harris County, Texas

AGENCY: Federal Highway Administration (FHWA), DOT.

ACTION: Notice of intent.

SUMMARY: The FHWA is issuing this notice to advise the public that an environmental impact statement will be prepared for a proposed transportation project in Harris County, Texas.

FOR FURTHER INFORMATION CONTACT: John Mack, Federal Highway Administration, Texas Division, 826 Federal Building, 300 East 8th Street, Austin, Texas 78701, Telephone 512-536-5960.

SUPPLEMENTARY INFORMATION: The FHWA, in cooperation with the Texas Department of Transportation (TxDOT) will prepare an environmental impact statement (EIS) for improvements in the US 290 corridor from IH 610 to FM 2920, a distance of approximately 38 miles (including the Hempstead Highway corridor and the connections to the IH 610 West Loop). The project is in Harris County, Texas, primarily within the city limits of Houston, although the corridor also extends into Jersey Village and the smaller communities of Cypress, Hockley, and Waller. A Major Investment Study (MIS) for the project was completed in 2003. The MIS evaluated modal and configuration alternatives for improvements within the study corridor and recommended a locally preferred multi-modal configuration to meet the corridor's transportation needs, while minimizing impacts to the surrounding environment.

The alternatives studied in the EIS will be variations, of the multi-modal configurations suggested in the US 290 Corridor Major Investment Study. The proposed alternative includes general-purpose lanes, managed lanes (possibly toll), and a reserve for advanced high-capacity transit (light rail/bus rapid transit). The EIS will evaluate alternative alignments for potential impacts from construction and operation of the proposed roadway including, but not limited to, the following: transportation impacts (construction detours, construction traffic, mobility improvement and evacuation improvement), air, and noise impacts from construction equipment and operation of the facilities, water quality impacts from construction area and roadway storm water runoff, impacts to waters of the United States including wetlands from right-of-way encroachment, impacts to historic and archeological resources, impacts to floodplains, and impacts and/or potential displacements to residents and businesses.

To ensure that the full range of issues relating to this proposed action are addressed, a series of public scoping meetings will be held from 6 to 9 p.m., as follows: On August 25, 2003, at Jersey Village High School (7600 Solomon, Houston, TX 77040), August 26 at Wainwright Elementary School (5330 Milwee, Houston, TX 77092), and August 27 at Ault Elementary School (21010 Maple Village Dr, Cypress, TX 77429). The purpose of the public scoping meetings will be to request comments and identify issues to be considered during evaluation of alignment alternatives and preparation of the EIS. All interested citizens are encouraged to attend these meetings. During the open house meetings, displays showing the project area and other project information will be presented and staff will be available to answer questions. In addition, a public hearing will be held in the future. Public notice will be given of the time and place of future public meetings and the public hearing. The Draft EIS will be available for public and agency review and comment prior to the public hearing.

Appropriate Federal, State and local agencies, and private organizations and citizens who have previously expressed or are known to have interest in this proposal will be sent letters describing the proposed action and soliciting comments.

To ensure that the full range of issues related to this proposed action are addressed and all significant issues identified, comments and suggestions are invited from all interested parties. Comments or questions concerning this proposed action and the EIS should be directed to the FHWA at the address provided above.

(Catalog of Federal Domestic Assistance Program Number 20.205 Highway Planning and Construction. The regulations implementing Executive Order 12372 regarding governmental consultation on Federal programs and activities apply to this program.)
John R. Mack,
District Engineer.

[FR Doc. 03-19097 Filed 7-25-03; 8:45 am]

BILLING CODE 4910-22-M